DEPARTMENT OF VETERANS AFFAIRS

[OMB Control No. 2900-New (VGLI Survey)]

Agency Information Collection Activities (Conversion From Servicemembers' Group Life Insurance to Veterans' Group Life Insurance) Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, will submit the collection of information abstracted below to the Office of Management and Budget (OMB) for review and comment. The PRA submission describes the nature of the information collection and its expected cost and burden and it includes the actual data collection instrument.

DATES: Comments must be submitted on or before January 20, 2009.

ADDRESSES: Submit written comments on the collection of information through http://www.Regulations.gov; or to VA's OMB Desk Officer, OMB Human Resources and Housing Branch, New Executive Office Building, Room 10235, Washington, DC 20503 (202) 395-7316. Please refer to “OMB Control No. 2900-New (VGLI Survey)” in any correspondence.

For Further Information or a Copy of the Submission Contact: Denise McLamb, Enterprise Records Service (005R1B), Department of Veterans Affairs, 810 Vermont Avenue, NW., Washington, DC 20420, (202) 461-7485, FAX (202) 273-0443 or e-mail: denise.mclamb@mail.va.gov. Please refer to “OMB Control No. 2900-New (VGLI Survey).”

SUPPLEMENTARY INFORMATION:

Title: Independent Evaluation of the Conversion Privilege from Servicemembers' Group Life Insurance (SGLI) to Veterans' Group Life Insurance (VGLI) for Disabled Service Members.

OMB Control Number: 2900-New (VGLI Survey).

Type of Review: New collection.

Abstract: The data collected will be used to determine the appropriate target rate to convert from SGLI to VGLI and to determine whether recently separated veterans with VA or Department of Defense disabilities with a disability rating of 50% or above made informed and rational decisions on their need for VGLI coverage.

An agency may not conduct or sponsor, and a person is not required to respond to a collection of information unless it displays a currently valid OMB control number. The Federal Register Notice with a 60-day comment period soliciting comments on this collection of information was published on October 10, 2008, at page 60407.

Affected Public: Individuals or households.

Estimated Annual Burden: 413 hours.

Estimated Average Burden Per Respondent: 20 minutes.

Frequency of Response: On occasion.

Estimated Number of Respondents: 1,216.

Dated: December 10, 2008.
By direction of the Secretary.
Denise McLamb,
Program Analyst, Enterprise Records Service.

[FR Doc. E8-30233 Filed 12-18-08; 8:45 am]

BILLING CODE 8320-01-P